DEPARTMENT OF ENERGY

Federal Energy Regulatory Commission

Combined Notice of Filings #1

Take notice that the Commission received the following electric rate filings:

Docket Numbers: ER22-1999-002.

Applicants: Number Three Wind LLC.

Description: Notice of Change in Status of Number Three Wind LLC.

Filed Date: 4/11/23.

Accession Number: 20230411-5199.

Comment Date: 5 p.m. ET 5/2/23.

Docket Numbers: ER23-1105-000.

Applicants: Mitsui & Co. Energy Marketing and Services (USA), Inc.

Description: Errata to Mitsui & Co. Energy Marketing and Services (USA), Inc submits tariff filing per 35.13(a)(2)(iii): Category status update normal filing submitted on 2/13/2023.

Filed Date: 4/11/23.

Accession Number: 20230411-5201.

Comment Date: 5 p.m. ET 4/21/23.

Docket Numbers: ER23-1612-000.

Applicants: Talen Energy Marketing, LLC.

Description: Talen Energy Marketing, LLC submits a One-Time Limited Waiver Request of procedural deadlines set forth in Section 6.6(g) of Attachment DD and Section II.C.4 of Attachment M—Appendix to PJM Interconnection, L.L.C. OATT.

Filed Date: 4/6/23.

Accession Number: 20230406-5235.

Comment Date: 5 p.m. ET 4/27/23.

Docket Numbers: ER23-1613-000.

Applicants: Midcontinent Independent System Operator, Inc., Michigan Electric Transmission Company, LLC.

Description: § 205(d) Rate Filing: Midcontinent Independent System Operator, Inc. submits tariff filing per 35.13(a)(2)(iii: 2023-04-12_SA 3026 METC-City of Holland 2nd Rev SIFA to be effective 6/12/2023.

Filed Date: 4/12/23.

Accession Number: 20230412-5039.

Comment Date: 5 p.m. ET 5/3/23.

Docket Numbers: ER23-1615-000.

Applicants: PJM Interconnection, L.L.C.

Description: Tariff Amendment: Notice of Cancellation of WMPA, SA No. 6331; Queue No. AG2-012 re: Breach to be effective 3/8/2023.

Filed Date: 4/12/23.

Accession Number: 20230412-5111.

Comment Date: 5 p.m. ET 5/3/23.

Docket Numbers: ER23-1616-000.

Applicants: Homer City Generation, L.P.

Description: Compliance filing: Homer City Generation, L.P. submits tariff filing per 35: Informational Filing Regarding Homer City Unit Retirements to be effective N/A.

Filed Date: 4/12/23.

Accession Number: 20230412-5132.

Comment Date: 5 p.m. ET 5/3/23.

Docket Numbers: ER23-1618-000.

Applicants: Ocotillo Solar LLC.

Description: Baseline eTariff Filing: Baseline new to be effective 4/13/2023.

Filed Date: 4/12/23.

Accession Number: 20230412-5158.

Comment Date: 5 p.m. ET 5/3/23.

Docket Numbers: ER23-1619-000.

Applicants: Mesquite Solar 1, LLC.

Description: § 205(d) Rate Filing: Assignment, Co-Tenancy and Shared Facilities Agreement to be effective 4/13/2023.

Filed Date: 4/12/23.

Accession Number: 20230412-5159.

Comment Date: 5 p.m. ET 5/3/23.

Docket Numbers: ER23-1620-000.

Applicants: Mesquite Solar 1, LLC.

Description: § 205(d) Rate Filing: Amended and Restated Co-Tenancy and Shared Facilities Agreement to be effective 4/13/2023.

Filed Date: 4/12/23.

Accession Number: 20230412-5161.

Comment Date: 5 p.m. ET 5/3/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 12, 2023.
Debbie-Anne A. Reese,
Deputy Secretary.

[FR Doc. 2023-08163 Filed 4-17-23; 8:45 am]

BILLING CODE 6717-01-P